LEGAL SERVICES CORPORATION

Sunshine Act Meeting of the Board of Directors Operations and Regulations Committee

TIME AND DATE: The Operations and Regulations Committee of the Legal Services Corporation Board of Directors will meet May 1, 2004. The meeting will begin at 10:15 a.m., and continue until completion of the Committee's agenda.

LOCATION: Moot Court Room, University of Maryland School of Law, 500 West Baltimore Street, Baltimore, Maryland 21201

SPECIAL NOTICE: Please note that meetings of the Board of Directors will be held at a different location on Friday, April 30, 2004.

STATUS OF MEETING: Open.

MATTERS TO BE CONSIDERED:

Open Session

1. Approval of agenda.

2. Approval of the Committee's meeting minutes of January 31, 2004.

3. Consider and act on retainer agreement and group representation issues relating to LSC open rulemaking on financial eligibility (45 CFR Part 1611).

a. Staff report; and

b. Public comment.

4. Consider and act on potential new rulemaking to develop procedures for the imposition of a reduction of recipient funding by less than 5% as a sanction for recipient non-compliance with LSC requirements and restrictions.

a. Staff report; and

b. Public comment.

5. Other public comment.

6. Consider and act on other business.

7. Consider and act on adjournment of meeting.

FOR FURTHER INFORMATION CONTACT: Patricia D. Batie, Manager of Board Operations, at (202) 295-1500.

SPECIAL NEEDS: Upon request, meeting notices will be made available in alternate formats to accommodate visual and hearing impairments. Individuals who have a disability and need an accommodation to attend the meeting may notify Patricia D. Batie, at (202) 295-1500.

Dated: April 21, 2004.
Victor M. Fortuno,
Vice President for Legal Affairs, General Counsel & Corporate Secretary.

[FR Doc. 04-9431 Filed 4-21-04; 1:09 pm]

BILLING CODE 7050-01-P